DEPARTMENT OF COMMERCE

International Trade Administration

[A-201-817]

Oil Country Tubular Goods From Mexico: Rescission of Antidumping Duty Administrative Review

AGENCY: Import Administration, International Trade Administration, Department of Commerce.

ACTION: Notice of rescission of antidumping duty administrative review.

SUMMARY: On September 30, 2003, the Department of Commerce (the Department) published in the Federal Register a notice announcing the initiation of an administrative review of the antidumping duty order on oil country tubular goods (OCTG) from Mexico. The period of review (POR) is August 1, 2002 to July 31, 2003. This review has now been rescinded because one party requesting the review withdrew its request, and the remaining exporter named in the request for review had no entries for consumption of subject merchandise that are subject to review in the United States during the POR.

EFFECTIVE DATE: February 10, 2004.

FOR FURTHER INFORMATION CONTACT: Phyllis Hall or Abdelali Elouaradia, Enforcement Group III, Office 8, Import Administration, International Trade Administration, U.S. Department of Commerce, 14th Street and Constitution Avenue, NW., Room 7866, Washington, DC 20230; telephone (202) 482-1398 or (202) 482-1374 respectively.

Scope of Review

Imports covered by this review are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of this proceeding is dispositive.

The Department has determined that couplings, coupling stock and drill pipe are not within the scope of the antidumping order on OCTG from Mexico. See Letter to Interested Parties; Final Affirmative Scope Decision, August 27, 1998. See Continuation of Countervailing and Antidumping Duty Orders on Oil Country Tubular Goods From Argentina, Italy, Japan, Korea and Mexico, and Partial Revocation of Those Orders From Argentina and Mexico With Respect to Drill Pipe, 66 FR 38630, July 25, 2001.

Background

On August 29, 2003, Hylsa, S.A. de C.V. (Hylsa) requested that the Department conduct an administrative review of Hylsa. We initiated the review for Hylsa on September 30, 2003. See Initiation of Antidumping and Countervailing Duty Administrative Reviews and Requests for Revocation in part 68 FR 56262 (September 30, 2003). On October 7, 2003, Hylsa withdrew its request and requested that the Department terminate the review with respect to Hylsa. Additionally on September 2, 2003, United States Steel Corporation (petitioner), requested and administrative review of Tubos de Acero de Mexico S.A. (TAMSA), a Mexican producer and exporter of OCTG, with respect to the antidumping order published in the Federal Register. See Antidumping Duty Order: Oil Country Tubular Goods From Mexico, 60 FR 41055 (August 11, 1995). We initiated the review for TAMSA on October 24, 2003. See Initiation of Antidumping and Countervailing Duty Administrative Reviews and Requests for Revocation in part, 68 FR 60910 (October 24, 2003).

SUPPLEMENTARY INFORMATION: On November 5, 2003, the Department issued an antidumping duty questionnaire to TAMSA. On November 26, 2003, TAMSA and Siderca Corporation (TAMSA's U.S. affiliate) claimed that they “did not directly or indirectly, enter for consumption, or sell, export or ship for entry for consumption in the United States subject merchandise during the period of review.” Petitioners did not comment on TAMSA's no shipment claim. See Memo to file dated January 12, 2004.

On January 7, 2004, the Department forwarded a no-shipment inquiry to U.S. Bureau of Customs and Border Protection (CBP) for circulation to all CBP ports. CBP did not indicate to the Department that there was any record of consumption entries during the POR of OCTG from Mexico exported by TAMSA.

As part of this investigation, the Department investigated proprietary information from CBP for all HTSUS numbers covered by the scope of this review. After reviewing the customs information, the Department determines that the merchandise entered during the POR was exported from a third country or party without TAMSA's knowledge and properly identified Mexico as the country of origin. See Memo to File dated January 22, 2004.

The Department has not been able to identify any other entries for consumption from TAMSA during the POR. Since there were no entries for consumption during the POR of OCTG from TAMSA, and because Hylsa timely withdrew its request for review, see 19 CFR 351.213(d)(1), we are rescinding this review in accordance with the Department's practice. The cash deposit rates for these firms will continue to be the rates established in the most recently completed segment of this proceeding.

This notice is issued and published in accordance with sections 777(i) of the Act and 19 CFR 351.213(d)(4).

Dated: February 3, 2004.
James J. Jochum,
Assistant Secretary for Import Administration.

[FR Doc.04-2859 Filed 2-9-04; 8:45am]

BILLING CODE 3510-DS-P